NUCLEAR REGULATORY COMMISSION

[Docket No. 50-312; NRC-2018-0180]

Sacramento Municipal Utility District; Rancho Seco Nuclear Generating Station

AGENCY: Nuclear Regulatory Commission.

ACTION: License termination; issuance.

SUMMARY: The U.S. Nuclear Regulatory Commission (NRC) is providing public notice of the termination of the Operating License (Possession Only) No. DPR-54. The NRC has terminated the license of the decommissioned Rancho Seco Nuclear Generating Station (Rancho Seco) in Herald, California and has approved the site for unrestricted release.

DATES: Notice of termination of Operating License No. DPR-54 issued on August 31, 2018.

ADDRESSES: Please refer to Docket ID NRC-2018-0180 when contacting the NRC about the availability of information regarding this document. You may obtain publicly-available information related to this document using any of the following methods:

• Federal Rulemaking Website: Go to http://www.regulations.gov and search for Docket ID NRC-2018-0180. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, MD 20852.

FOR FURTHER INFORMATION CONTACT: Ted Carter, Office of Nuclear Material Safety and Safeguards, U.S. Nuclear Regulatory Commission, Washington, DC 20555-0001; telephone: 301-415-5543, email: Ted.Carter@nrc.gov.

SUPPLEMENTARY INFORMATION: The NRC has terminated License No. DPR-54, held by Sacramento Municipal Utility District (SMUD), for Rancho Seco in Herald, California, and has approved the site for unrestricted release. Accordingly, the existing indemnity agreement between SMUD and the NRC has been terminated.

Rancho Seco initially went critical on September 16, 1974, and began commercial operation on April 18, 1975. On June 7, 1989, SMUD permanently terminated nuclear power operations at Rancho Seco. On December 8, 1989, SMUD completed defueling the reactor. On March 17, 1992, the NRC amended the Rancho Seco operating license to “Possession Only” status (ADAMS Accession No. ML17283A071). On March 20, 1995, the NRC issued the Rancho Seco Decommissioning Order. The Order authorized SMUD to decommission the facility and accepted the Rancho Seco decommissioning funding plan. SMUD began actively decommissioning Rancho Seco in February 1997. In March 1997, SMUD revised the Rancho Seco Decommissioning Plan to conform to the content requirements of the Post Shutdown Decommissioning Activities Report.

On June 30, 2000, the NRC issued Materials License SNM-2510 for the Rancho Seco Independent Spent Fuel Storage Installation (ISFSI). This site-specific license authorizes SMUD to store Rancho Seco spent fuel at the Rancho Seco ISFSI. The licensee completed transferring all of the spent fuel to the ISFSI on August 21, 2002. All of the spent fuel is now stored at the ISFSI. The ISFSI is a separately licensed facility located outside the operating licensed site. On October 10, 2002, NRC approved a license amendment that eliminated the security plan requirements from the operating licensed facility (ADAMS Accession No. ML022840145).

Dated at Rockville, Maryland, this 5th day of August 2018.
For the Nuclear Regulatory Commission.
John P. Clements,
Acting Branch Chief, Reactor Decommissioning Branch, Division of Decommissioning, Uranium Recovery, and Waste Programs, Office of Nuclear Material Safety and Safeguards.

[FR Doc. 2018-19602 Filed 9-10-18; 8:45 am]

BILLING CODE 7590-01-P